DEPARTMENT OF ENERGY

Federal Energy Regulatory Commission

[Docket No. RP96-320-045]

Gulf South Pipeline Company, LP; Notice of Negotiated Rate Filing

April 26, 2001.

Take notice that on April 23, 2001, Gulf South Pipeline Company, LP (Gulf South) filed with the Commission a contract for disclosure of a recently negotiated rate transaction with Mobile Gas Service Corporation to be substituted for the contract field on April 19, 2001. Gulf South states that certain pages were inadvertently omitted from the contract; therefore, Gulf South requests withdrawal of the April 19, 2001 filing.

Gulf South states that copies of the filing are being served upon all parties on the official service list created by the Secretary in this proceeding.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-10779 Filed 4-30-01; 8:45 am]

BILLING CODE 6717-01-M